DEPARTMENT OF HEALTH AND HUMAN SERVICES

Centers for Disease Control and Prevention

[Program Announcement Number 02164]

Laboratory Strengthening for Infectious Disease, Surveillance Control and Response in East Africa; Notice of Award of Funds

A. Purpose

The Centers for Disease Control and Prevention (CDC) announces the availability of fiscal year (FY) 2002 funds for a cooperative agreement for Laboratory Strengthening for Infectious Disease Surveillance Control and Response in East Africa.

The purpose of the program is to strengthen the delivery of field support and programming to the CDC and the United States Agency for International Development (USAID) Missions in East Africa. This will be accomplished through the development of new approaches and technologies in response to near and long-term field needs. These needs were established in accordance with the Infectious Disease Interagency Agreement (IAA) between USAID and CDC. This cooperative agreement will support activities in laboratory confirmation of suspected outbreaks, control and prevention of infectious diseases, and system strengthening activities represented by quality assurance and quality control of laboratory confirmation of priority diseases. Measurable outcomes of the program will be in alignment with one or more of the following performance goals for the Epidemiology Program Office:

1. Encourage state health departments and ministries of health to develop efficient and comprehensive public health information and surveillance systems by promoting the use of the internet and by focusing on development of standards for communications and data elements.

2. Efficiently respond to the needs of our public health partners through the provision of epidemiologic assistance.

3. Implement accessible training programs to provide an effective work force for staffing state and local health departments, laboratories, and ministries of health in developing countries.

B. Eligible Applicants

Assistance will be provided only to the African Medical and Research Foundation (AMREF) in Kenya. No other applications are solicited.

AMREF has extensive and documented experience in providing laboratory reference services, laboratory quality assurance, and training programs for laboratory confirmation, disease control and prevention in East Africa. This includes participation in the External Quality Assessment Scheme in Microbiology conducted by the World Health Organization(WHO) Collaborating Center for Antimicrobiology Resistance at CDC. They have the distinction of being the onlyorganization in East Africa with the knowledge andexperience of the logistics and technical issues related to transporting laboratory specimens from rural areas in East Africa. AMREF has extensive experience working in East African countries with ministries of health (MOH) and local non-governmental organizations (NGO), as well as withvarious international health organizations.

Note: Title 2 of the United States Code section 1611 states that an organization described in section 501(c)(4) of the Internal Revenue Code that engages in lobbying activities is not eligible to receive Federal funds constituting an award, grant or loan.

C. Availability of Funds

Approximately $80,000 is available in FY 2002 to fund this award. It is expected that the award will begin on or about September 1, 2002 and will be made for a 12-month budget period within a project period of up to 4 years depending on the availability of funds. Funding estimates may change. Continuation awards within an approved project period will be made on the basis of satisfactory progress as evidenced by required reports and the availability of funds.

1. Direct Assistance

No direct assistance will be provided.

2. Use of Funds

All requests for funds contained in the budget, shall be stated in U.S. dollars. Once an award is made, CDCwill not compensate foreign grantees for currency exchange fluctuations through issuance of supplemental awards. By making this statement all requests, not only the initial budget but any subsequent request such as re-directions, requests for supplemental funds, carry-overs, etc. are included. This is Health andHuman Services (HHS) policy.

a. Funds may be spent for reasonable program purposes, including personnel, travel, supplies, and services. Equipment may be purchased if deemed necessary to accomplish program objectives, however, prior approval by CDC officials must be requested in writing. All purchased equipment is for the sole use of the project, and will become the property of USAID at the completion of the project.

b. The costs that are generally allowable in grants to domestic organizations are allowable to foreign institutions and international organizations, with the following exception: Indirect costs will not be paid (either directly or through sub-award) to organizations located outside the territorial limits of the United States or to international organizations regardless of their location.

c. The applicant may contract with other organizations under this program; however, the applicant must perform a substantial portion of the activities (including program management and operations, and delivery of prevention services)for which funds are required.

d. Limitations and/or prohibitions on the use of funds are as follows: Alterations and renovations are not allowable.

D. Where To Obtain Additional Information

This and other CDC announcements can be found on the CDC home page Internet address— http://www.cdc.gov. Click on “Funding” then “Grants and Cooperative Agreements.”

To obtain business management technical assistance, contact: Angelia D. Hill, Grants Management Specialist, International & Territories Acquisition & Assistance Branch, Procurement and Grants Office, Centers for Disease Control and Prevention, 2920 Brandywine Road, Room 3000, E-09, Atlanta, GA 30341-4146. Telephone number (770)488-2785. e-mail address: ahill@cdc.gov.

For program technical assistance, contact: Dr. Peter Nsubuga, Medical Epidemiologist, Division of International Health, Epidemiology Program Office, Centers for Disease Control and Prevention, 4770 Buford Highway, K-72, Atlanta, GA 30341. Telephone number (770) 488-8334. e-mail address: pcn0@cdc.gov.

Or

Kathleen F. Cavallaro, MT (ASCP), MS, Public Health Advisor, Division of Bacterial and Mycotic Diseases, National Center for Infectious Diseases, Centers for Disease Control and Prevention, 4770 Buford Highway, K-72. Atlanta, GA 30341. Telephone number (770) 488-8333. e-mail address: kfc1@cdc.gov.

Dated: October 9, 2002.
Edward J. Schultz,
Deputy Director, Procurement and Grants Office, Centers for Disease Control and Prevention.

[FR Doc. 02-26533 Filed 10-17-02; 8:45 am]

BILLING CODE 4163-18-P